DEPARTMENT OF AGRICULTURE

Animal and Plant Health Inspection Service

[Docket No. APHIS-2022-0008]

General Conference Committee of the National Poultry Improvement Plan and 45th Biennial Conference

AGENCY: Animal and Plant Health Inspection Service, USDA.

ACTION: Notice of meeting.

SUMMARY: We are giving notice of a meeting of the General Conference Committee (GCC or the Committee) of the National Poultry Improvement Plan (NPIP) and the NPIP's 45th Biennial Conference, which was originally scheduled to take place in 2020 but was postponed due to the COVID-19 pandemic.

DATES: The General Conference Committee meeting will be held on Tuesday, June 7, 2022, from 1:30 p.m. to 6 p.m. The General Session of the Biennial Conference will begin on Wednesday, June 8, 2022, at 7:30 a.m. and end no later than Friday, June 10, 2022, at 2:30 p.m.

ADDRESSES: The meeting and conference will be held at the Dallas/Addison Marriott Quorum by the Galleria, 14901 Dallas Parkway, Dallas, TX.

FOR FURTHER INFORMATION CONTACT: Dr. Elena Behnke, Senior Coordinator, National Poultry Improvement Plan, VS, APHIS, USDA, 1506 Klondike Road, Suite 101, Conyers, GA 30094; (770) 922-3496.

SUPPLEMENTARY INFORMATION: The General Conference Committee (the Committee) of the National Poultry Improvement Plan (NPIP), representing cooperating State agencies and poultry industry members, serves an essential function by acting as liaison between the poultry industry and the Department in matters pertaining to poultry health.

Topics for discussion at the upcoming meeting include:

1. NPIP diagnostic tests seeking NPIP approval.

2. Salmonella update.

3. National Veterinary Services Laboratories avian influenza and Newcastle disease virus update.

4. Mycoplasma update.

The meeting will be open to the public; however, public participation in discussions during the sessions will only be allowed if time permits. Written statements may be filed at the meeting or filed with the Committee before or after the meeting by sending them to the person listed under FOR FURTHER INFORMATION CONTACT. Please refer to Docket No. APHIS-2022-0008 when submitting your statements.

This notice of meeting is given pursuant to section 10 of the Federal Advisory Committee Act (5 U.S.C. App. 2).

Dated: May 10, 2022.
Cikena Reid,
USDA Committee Management Officer.

[FR Doc. 2022-10570 Filed 5-16-22; 8:45 am]

BILLING CODE 3410-34-P